DEPARTMENT OF COMMERCE

National Oceanic and Atmospheric Administration

[I.D. 022807B]

Pre-assessment Workshop and Public Meeting for West Coast Canary Rockfish, Darkblotched Rockfish and Arrowtooth Flounder

AGENCY: National Marine Fisheries Service (NMFS), National Oceanic and Atmospheric Administration (NOAA), Commerce.

ACTION: Notice of public meeting.

SUMMARY: NOAA Fisheries will hold a workshop to discuss the data and models that will be used in the upcoming stock assessments for canary rockfish, darkblotched rockfish and arrowtooth flounder.

DATES: The Pre-assessment Workshop for West Coast Canary Rockfish, Darkblotched Rockfish and Arrowtooth Flounder will be held Tuesday, April 24 through Wednesday, April 25, 2007. The workshop will meet each day from 8:30 a.m. through 4:30 p.m., or until business for the day is completed.

ADDRESSES: The Pre-Assessment Workshop for West Coast Canary Rockfish, Darkblotched Rockfish and Arrowtooth Flounder will be held at Pacific States Marine Fisheries Commission, 205 S.E. Spokane Street, Portland, Oregon 97202.

FOR FURTHER INFORMATION CONTACT: Ms. Stacey Miller, Northwest Fisheries Science Center (NWFSC); telephone: (206) 437-5670; or Dr. Jim Hastie, Northwest Fisheries Science Center (NWFSC); telephone: (206)860-3412.

SUPPLEMENTARY INFORMATION: This workshop is intended to initiate dialog between members of the fishing community, stock assessment authors, data managers, and interested members of the public prior to the finalization of the stock assessment model. The specific objectives of the workshop are to: (1) Discuss the data used in the canary rockfish, darkblotched rockfish and arrowtooth flounder stock assessments including details on collections methods, current observed trends, and how the data will be incorporated into the assessment models; (2) discuss the rationale for making assumptions in the models, especially when data are missing or insufficient; (3) identify anomalies in the data and provide possible explanations; and (4) identify data gaps and future research possibilities.

All participants are encouraged to pre-register for the workshop by contacting Ms. Stacey Miller, Northwest Fisheries Science Center (NWFSC) by phone at (206)437-5670 or by email at Stacey.Miller@noaa.gov.

Although non-emergency issues not contained in the meeting agenda may come before the workshop participants for discussion, those issues may not be the subject of formal workshop action during this meeting. Workshop action will be restricted to those issues specifically listed in this notice and any issues arising after publication of this notice that require emergency action under section 305c) of the Magnuson-Stevens Fishery Conservation and Management Act, provided the public has been notified of the workshop participants' intent to take final action to address the emergency.

Special Accommodations

This meeting is physically accessible to people with disabilities. Requests for sign language interpretation or other auxiliary aids should be directed to Ms. Stacey Miller at (206) 437-5670 at least five days prior to the meeting date.

Dated: March 30, 2007.
Tracey L. Thompson,
Acting Director, Office of Sustainable Fisheries, National Marine Fisheries Service.

[FR Doc. E7-6201 Filed 4-3-07; 8:45 am]

BILLING CODE 3510-22-S